DEPARTMENT OF TRANSPORTATION

Federal Aviation Administration

14 CFR Part 39

[Docket No. FAA-2020-0327; Product Identifier 2020-NM-033-AD; Amendment 39-21228; AD 2020-18-07]

RIN 2120-AA64

Airworthiness Directives; Airbus SAS Airplanes

AGENCY: Federal Aviation Administration (FAA), Department of Transportation (DOT).

ACTION: Final rule.

SUMMARY: The FAA is superseding Airworthiness Directive (AD) 2016-18-09, which applied to certain Airbus SAS Model A318, A319, and A320 series airplanes. AD 2016-18-09 required repetitive detailed inspections for damage on the fuselage skin at certain frames, and applicable related investigative and corrective actions. This AD continues to require repetitive inspections of the fuselage skin for chafing damage at certain frames using a new inspection process, and corrective actions if necessary; as specified in a European Union Aviation Safety Agency (EASA) AD, which is incorporated by reference. This AD was prompted by reports of additional chafing of the forward fuselage found underneath the fairing structure. Investigation revealed the cause as contact between the belly fairing nut plate and the fuselage. The FAA is issuing this AD to address the unsafe condition on these products.

DATES: This AD is effective October 9, 2020.

The Director of the Federal Register approved the incorporation by reference of a certain publication listed in this AD as of October 9, 2020.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0327.

Examining the AD Docket

You may examine the AD docket on the internet at https://www.regulations.gov by searching for and locating Docket No. FAA-2020-0327; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Discussion

The EASA, which is the Technical Agent for the Member States of the European Union, has issued EASA AD 2020-0030, dated February 18, 2020 (“EASA AD 2020-0030”) (also referred to as the Mandatory Continuing Airworthiness Information, or “the MCAI”), to correct an unsafe condition for certain Airbus SAS Model A318 series airplanes; Model A319-111, -112, -113, -114, -115, -131, -132, and -133 airplanes; and Model A320-211, -212, -214, -215, -216, -231, -232, and -233 airplanes. Model A320-215 airplanes are not certificated by the FAA and are not included on the U.S. type certificate data sheet; therefore, this AD does not include those airplanes in the applicability. EASA AD 2020-0030 supersedes EASA AD 2014-0259 (which corresponds to FAA AD 2016-18-09, Amendment 39-18639 (81 FR 61993, September 8, 2016) (AD 2016-18-09)).

The FAA issued a notice of proposed rulemaking (NPRM) to amend 14 CFR part 39 to supersede AD 2016-18-09. AD 2016-18-09 applied to certain Airbus SAS Model A318, A319, and A320 series airplanes. The NPRM published in the Federal Register on April 10, 2020 (85 FR 20203). The NPRM was prompted by reports of additional chafing of the forward fuselage found underneath the fairing structure. Investigation revealed the cause as contact between the belly fairing nut plate and the fuselage. The NPRM proposed to continue to require repetitive inspections of the fuselage skin for chafing damage at certain frames using a new inspection process, and corrective actions if necessary, as specified in an EASA AD.

The FAA is issuing this AD to address damage to the fuselage skin, which could lead to crack initiation and propagation, possibly resulting in reduced structural integrity of the fuselage. See the MCAI for additional background information.

Comments

The FAA gave the public the opportunity to participate in developing this final rule. The following presents the comment received on the NPRM and the FAA's response to the comment.

Request To Provide Clarification That Inspection Includes Existing Repairs

United Airlines (UAL) asked that the FAA clarify whether the proposed inspection of the external skin panel includes existing repairs. UAL stated that the inspections specified in Airbus Service Bulletin A320-53-1287 (the appropriate source of service information for certain actions in AD 2016-18-09, as well as in EASA AD 2020-0030) continue to involve repair doublers as a result of chafing beyond allowable skin panel damage. UAL added that clarification regarding existing repairs is necessary since Airbus Service Bulletin A320-53-1287 does not include specific instructions to remove any existing doubler, nor give specific instructions to include existing repairs during the skin panel inspection. UAL noted that it is not necessary to remove any reinforcement repair, because the chafing damage from the fairing panel will cause damage to an external repair before reaching the original skin panel. UAL stated that it had previously submitted a similar request for different rulemaking, which was approved; the phrase “including previously repaired areas” was added to AD 2016-18-09.

The FAA provides the following clarification. For the reasons stated by the commenter, we agree to include previously repaired areas for the inspection required by paragraph (g). The FAA has added paragraph (h)(5) of this AD to clarify that inspecting previously repaired areas is included.

Conclusion

The FAA reviewed the relevant data, considered the comment received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2020-0030 describes procedures for repetitive inspections of the fuselage skin for chafing damage at certain frames, and applicable corrective actions if damage is found. The corrective actions include a special detailed inspection of external fuselage skin panel for any cracking, measurement of crack length and remaining thickness, modification, and repair. EASA AD 2020-0030 also provides an optional terminating action (modification of the forward belly fairing) for the repetitive inspections. This material is reasonably available because the interested parties have access to it through their normal course of business or by the means identified in the ADDRESSES section.

Costs of Compliance

The FAA estimates that this AD affects 1,538 airplanes of U.S. registry. The FAA estimates the following costs to comply with this AD:

Estimated Costs for Required Actions
Action | Labor cost | Parts cost | Cost per product | Cost on U.S. operators
Retained actions from AD 2016-18-09 | 12 work-hours × $85 per hour = $1,020 | $90 | $1,110 | $1,691,800
New proposed actions | 13 work-hours × $85 per hour = $1,105 | 150 | 1,255 | 1,930,190

Estimated Costs of On-Condition Actions
Labor cost | Parts cost | Cost per product
21 work-hours × $85 per hour = $1,785 | $3,550 | $5,335

Estimated Costs for Optional Actions
Labor cost | Parts cost | Cost per product
21 work-hours × $85 per hour = $1,785 | $4,150 | $5,935

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-18-09, Amendment 39-18639 (81 FR 61993, September 8, 2016), and adding the following new AD:

2020-18-07 Airbus SAS: Amendment 39-21228; Docket No. FAA-2020-0327; Product Identifier 2020-NM-033-AD.

(a) Effective Date

This AD is effective October 9, 2020.

(b) Affected ADs

This AD replaces AD 2016-18-09, Amendment 39-18639 (81 FR 61993, September 8, 2016) (“AD 2016-18-09”).

(c) Applicability

This AD applies to Airbus SAS Model airplanes specified in paragraphs (c)(1) through (3) of this AD, certificated in any category, as identified in European Union Aviation Safety Agency (EASA) AD 2020-0030, dated February 18, 2020 (“EASA AD 2020-0030”).

(1) Model A318-111, -112, -121, and -122 airplanes.

(2) Model A319-111, -112, -113, -114, -115, -131, -132, and -133 airplanes.

(3) Model A320-211, -212, -214, -216, -231, -232, and -233 airplanes.

(d) Subject

Air Transport Association (ATA) of America Code 53, Fuselage.

(e) Reason

This AD was prompted by reports of additional chafing of the forward fuselage underneath the fairing structure. Investigation revealed the cause as contact between the belly fairing nut plate and the fuselage. The FAA is issuing this AD to address damage to the fuselage skin, which could lead to crack initiation and propagation, possibly resulting in reduced structural integrity of the fuselage.

(f) Compliance

Comply with this AD within the compliance times specified, unless already done.

(g) Requirements

Except as specified in paragraph (h) of this AD: Comply with all required actions and compliance times specified in, and in accordance with, EASA AD 2020-0030.

(h) Exceptions to EASA AD 2020-0030

(1) Where EASA AD 2020-0030 refers to its effective date, this AD requires using the effective date of this AD.

(2) The “Remarks” section of EASA AD 2020-0030 does not apply to this AD.

(3) Where EASA AD 2020-0030 refers to the effective date of EASA AD 2014-0259, this AD requires using October 13, 2016 (the effective date of AD 2016-18-09).

(4) Where EASA AD 2020-0030 refers to doing actions “in accordance with the instructions of” the service information, for this AD, only use paragraph 3.C., “Procedure,” of the service information.

(5) Where paragraph (1) of EASA AD 2020-0030 requires accomplishing a detailed inspection of the affected area (external fuselage skin panels), for this AD, that inspection also includes inspecting previously repaired areas.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to 9-AVS-AIR-730-AMOC@faa.gov.

(i) Before using any approved AMOC, notify your appropriate principal inspector, or lacking a principal inspector, the manager of the local flight standards district office/certificate holding district office.

(ii) AMOCs approved previously for AD 2016-18-09 are approved as AMOCs for the corresponding provisions of EASA AD 2020-0030 that are required by paragraph (g) of this AD.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2020-0030 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Sanjay Ralhan, Aerospace Engineer, Large Aircraft Section, International Validation Branch, FAA, 2200 South 216th St., Des Moines, WA 98198; telephone and fax 206-231-3223; email sanjay.ralhan@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 9, 2020.

(i) European Union Aviation Safety Agency (EASA) AD 2020-0030, dated February 18, 2020.

(ii) [Reserved]

(4) For information about EASA AD 2020-0030, contact the EASA, Konrad-Adenauer-Ufer 3, 50668 Cologne, Germany; telephone +49 221 8999 000; email ADs@easa.europa.eu; internet www.easa.europa.eu. You may find this EASA AD on the EASA website at https://ad.easa.europa.eu.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0327.

(6) You may view this material that is incorporated by reference at the National Archives and Records Administration (NARA). For information on the availability of this material at NARA, email fedreg.legal@nara.gov, or go to https://www.archives.gov/federal-register/cfr/ibr-locations.html.

Issued on August 21, 2020.
Gaetano A. Sciortino,
Deputy Director for Strategic Initiatives, Compliance & Airworthiness Division, Aircraft Certification Service.

[FR Doc. 2020-19581 Filed 9-3-20; 8:45 am]

BILLING CODE 4910-13-P